GENERAL SERVICES ADMINISTRATION

[Notice MA-2020-07; Docket No. 2020-0002, Sequence No. 20]

Request for Public Comment: Methodologies To Identify Excess Personal Property

AGENCY: General Services Administration (GSA).

ACTION: Notice.

SUMMARY: GSA is seeking input on methodologies to identify personal property as excess. See the SUPPLEMENTARY INFORMATION section below for additional guidance.

DATES: Comments must be received on or before November 13, 2020.

ADDRESSES: Submit comments identified by “Notice-MA-2020-07, Methodologies to Identify Excess Personal Property” by any of the following methods:

• Regulations.gov: http://www.regulations.gov. Submit comments via the Federal eRulemaking portal by searching for Notice-MA-2020-07, Methodologies to Identify Excess Personal Property. Select the link “Comment Now” that corresponds with “Notice MA-2020-07, Methodologies to Identify Excess Personal Property.” Follow the instructions provided on the screen. Please include your name, company name (if applicable), and “Notice-MA-2020-07, Methodologies to Identify Excess Personal Property” on your attached document.

FOR FURTHER INFORMATION CONTACT: Mr. William Garrett, Director, Personal Property, Office of Government-wide Policy, 202-368-8163 or via email at william.garrett@gsa.gov.

SUPPLEMENTARY INFORMATION: In January 2018, the Federal Personal Property Management Act (FPPMA), Public Law 115-419, was enacted requiring agencies to regularly assess certain types of personal property under their control in accordance with guidance from GSA. Subsequently, on December 20, 2019, GAO published its final report GAO-20-228, “Federal Property: GSA Guidance Needed to Help Agencies Identify Unneeded Property in Warehouses.” The report concluded, in part, “with the recent enactment of FPPMA, an opportunity exists for GSA to develop and communicate guidance to help agencies assess property utilization and identify unneeded property in warehouses more efficiently that includes practices GSA identifies as being useful.” The report concluded that the Administrator of General Services should “direct the Office of Government-wide Policy (1) to incorporate into its guidance approaches or practices that agencies could use to assess utilization of and the ongoing need for property—approaches such as recommendations for periodic justifications, data analytics, and utilization reviews—and (2) to develop a plan and timelines for communicating the guidance to agencies government-wide.” To address these recommendations, in part, GSA established a working group of Federal and industry personal property management experts. GSA is soliciting input from the public to inform GSA and the working group of existing methodologies to effectively identify excess personal property.

Although GSA may not respond to each individual comment, GSA may follow-up with respondents to clarify input. GSA values public feedback and will consider all comments that it receives. GSA will also be conducting targeted outreach on this same topic, including engaging with subject matter experts to improve internal guidance.

Jessica Salmoiraghi,
Associate Administrator, Office of the Administrator.

[FR Doc. 2020-18209 Filed 9-11-20; 8:45 am]

BILLING CODE 6820-14-P